DEPARTMENT OF HOMELAND SECURITY

Coast Guard

33 CFR Part 117

[Docket No. USCG-2013-0441]

Drawbridge Operation Regulation; Tombigbee River, AL

AGENCY: Coast Guard, DHS.

ACTION: Notice of deviation from drawbridge regulation.

SUMMARY: The Coast Guard has issued a temporary deviation from the regulation governing the operation of the Meridian Bigbee Railroad (MBRR) vertical lift bridge across the Tombigbee River, mile 128.6, near Naheola, between Choctaw and Morengo Counties, Alabama. The deviation is necessary for emergency replacement of the uphaul and downhaul ropes. This deviation allows the bridge to remain closed to navigation for two 10-hour closures on two consecutive weekends.

DATES: This deviation is effective from 7 a.m. July 13, 2013 through 5 p.m. July 21, 2013.

ADDRESSES: The docket for this deviation, [USCG-2013-0441] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Jim Wetherington, Bridge Branch Office, Coast Guard; telephone 504-671-2128, email james.r.wetherington@uscg.mil. If you have questions on viewing the docket, call Barbara Hairston, Program Manager, Docket Operations, telephone 202-366-9826.

SUPPLEMENTARY INFORMATION: The MBRR has requested a temporary deviation from the operating schedule for the Meridian Bigbee vertical lift bridge across the Tombigbee River, mile 128.6, near Naheola, between Choctaw and Morengo Counties, Alabama. The bridge has a vertical clearance of 12 feet above ordinary high water at an elevation of 58 ft (NGVD 29) in the closed-to-navigation position. Vessels requiring a clearance of less than 12 feet above ordinary high water may transit beneath the bridge during maintenance operations.

In accordance with Title 33 CFR 117.5, the bridge must open promptly and fully for the passage of vessels when requested or signaled to open. This deviation will allow the bridge to remain closed to marine traffic on July 13-14, 2013 from 7 a.m. through 5 p.m. each day and July 20-21 from 7 a.m. through 5 p.m. each day. At all other times, the bridge will operate in accordance with Title 33 CFR 117.5.

The closure is necessary for the replacement of the uphaul and downhaul ropes. Problems were discovered after an incident in which a cable ceased to function. An inspection of the other ropes revealed issues that must be quickly addressed. Notices will be published in the Eighth Coast Guard District Local Notice to Mariners and will be broadcast via the Coast Guard Broadcast Notice to Mariners System.

Navigation on the waterway consists of tugs with and without tows, commercial vessels, and recreational craft. Coordination between the Coast Guard and the waterway users determined that there should not be any significant effects on these vessels. The bridge will be unable to open during these repairs and no alternate route is available. Vessels that do not require an opening may pass with extreme caution.

In accordance with 33 CFR 117.35(e), the drawbridge must return to its regular operating schedule immediately at the end of the designated time period. This deviation from the operating regulations is authorized under 33 CFR 117.35.

Dated: June 6, 2013.
David M. Frank,
Bridge Administrator.

[FR Doc. 2013-14547 Filed 6-18-13; 8:45 am]

BILLING CODE 9110-04-P